NUCLEAR REGULATORY COMMISSION

10 CFR Chapter I

RIN 3150-AF61

Electronic Maintenance and Submission of Information

AGENCY: Nuclear Regulatory Commission.

ACTION: Proposed rule.

SUMMARY: The Nuclear Regulatory Commission (NRC) proposes to amend its rules to clarify when and how licensees and other members of the public may use electronic means such as CD-ROM and e-mail to communicate with the agency. These amendments are necessary to implement the Government Paperwork Elimination Act (GPEA). In the Rules and Regulations section of this Federal Register, the NRC is publishing a direct final rule on this subject, because the Agency views this action as noncontroversial and anticipates that it will not receive significant adverse comments. A detailed rationale for the rulemaking is set forth in the direct final rule notice. If the NRC does not receive any significant adverse comments on this rule, then the rule will become final without further proceedings. If the NRC receives significant material and adverse comments, the direct final rule will be withdrawn and the NRC will address all public comments received in a later final rule based on this proposed rule. The NRC will not begin a second comment period. At the same time that the NRC is proposing to amend its rules, it is also making available guidance on how to submit documents to the agency electronically. The guidance is appended to the Federal Register publication of the direct final rule. When the final rule becomes effective, this new guidance document will supersede earlier guidance on electronic submissions.

DATES: The comment period for this proposed rule ends on October 21, 2002. Comments received after that date will be considered if it is practical to do so, but the NRC is able to ensure only that comments received on or before this date will be considered. The NRC staff will hold a public meeting to answer questions on issues arising from this action on October 3, 2002.

ADDRESSES: Mail written comments to the Secretary, U.S. Nuclear Regulatory Commission, Washington, DC 20555-0001, Attention: Rulemakings and Adjudications Staff.

Deliver comments to: 11555 Rockville Pike, Rockville, Maryland, between 7:30 a.m. and 4:15 p.m. Federal workdays.

Comments may also be submitted via the NRC's interactive rulemaking Web site at http://ruleforum.llnl.gov. This site permits a commenter to upload comments as files (most formats), if the commenter's Web browser supports that function. For information about the interactive rulemaking site, contact Ms. Carol Gallagher, 301-415-5905, CAG@nrc.gov.

Comments received may be viewed and downloaded electronically via the interactive rulemaking Web site. Comments will also be available electronically for public inspection in the Publicly Available Records System (PARS) Library component of the NRC's Agencywide Documents Access and Management System (ADAMS). ADAMS is accessible from the NRC's Web site at http://www.nrc.gov by selecting “Documents in ADAMS” from the index, and at the NRC Public Document Room (PDR). The PDR is located at One White Flint North, 11555 Rockville Pike, (First Floor), Rockville, MD. If you do not have access to ADAMS, or if you have difficulty accessing the documents in ADAMS, contact the NRC Public Document Room Reference Staff by phone at 1-800-397-4209 or 301-415-4737, or by e-mail to pdr@nrc.gov. The guidance the agency is issuing as an appendix to the direct final rule is also available via ADAMS at the NRC's Web site at http://www.nrc.gov/site-help/eie.html, by calling (301) 415-6030, by e-mail at EIE@nrc.gov, or by writing to the Applications Development Division, Office of the Chief Information Officer, at the main NRC address, given under the ADDRESSES heading above.

The public meeting will be held in the auditorium at NRC Headquarters, Two White Flint North, 11545 Rockville, MD, beginning at 8:30 a.m. and ending about 12:30 p.m.

FOR FURTHER INFORMATION CONTACT: John A. Skoczlas, 301-415-7186, EIE@nrc.gov; or Brenda J. Shelton, 301-415-7233, bjs1@nrc.gov.

SUPPLEMENTARY INFORMATION: See the information provided in the direct final rule of the same title, which is found in the Rules and Regulations section of this Federal Register.

Dated at Rockville Maryland, this 22nd day of August, 2002.
For the Nuclear Regulatory Commission.
Annette Vietti-Cook,
Secretary of the Commission.

[FR Doc. 02-21888 Filed 9-5-02; 8:45 am]

BILLING CODE 7590-01-P